DEPARTMENT OF COMMERCE

National Oceanic and Atmospheric Administration

RIN 0648-XA671

Pacific Fishery Management Council (Council); Work Session To Review Proposed Salmon Methodology Changes

AGENCY: National Marine Fisheries Service (NMFS), National Oceanic and Atmospheric Administration (NOAA), Commerce.

ACTION: Notice of a public meeting.

SUMMARY: The Pacific Fishery Management Council's Salmon Technical Team (STT), Scientific and Statistical Committee (SSC) Salmon Subcommittee, and Model Evaluation Workgroup (MEW) will review proposed salmon methodology and conservation objective changes in a joint work session, which is open to the public.

DATES: The work session will be held Tuesday, October 4, 2011, from 9 a.m. to 4:30 p.m., and Wednesday, October 5, 2011 from 9 a.m. to 4 p.m.

ADDRESSES: The work session will be held at the Pacific Council Office, Large Conference Room, 7700 NE Ambassador Place, Suite 101, Portland, OR 97220-1384.

FOR FURTHER INFORMATION CONTACT: Mr. Chuck Tracy, Salmon Management Staff Officer, Pacific Fishery Management Council; telephone: (503) 820-2280.

SUPPLEMENTARY INFORMATION: The purpose of the work session is to brief the STT and SSC Salmon Subcommittee on proposed changes to methods and standards used to manage ocean salmon fisheries. The work session will potentially include review of an abundance-based management framework for Lower Columbia River tule fall Chinook, review of a harvest model for Sacramento River Winter-Run Chinook, a review and evaluation of preseason and postseason mark-selective fisheries both north and south of Cape Falcon, and an analysis of bias in Chinook and Coho Fishery Regulation Assessment Models due to multiple encounters in mark-selective fisheries.

Although non-emergency issues not contained in the meeting agenda may come before the STT, SSC Salmon Subcommittee, and MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: August 25, 2011.
Tracey L. Thompson,
Acting Director, Office of Sustainable Fisheries, National Marine Fisheries Service.

[FR Doc. 2011-22194 Filed 8-30-11; 8:45 am]

BILLING CODE 3510-22-P